ENVIRONMENTAL PROTECTION AGENCY

[FRL-11756-01-OA]

Announcement of Board of Directors of the National Environmental Education Foundation

AGENCY: Office of Public Engagement and Environmental Education, U.S. Environmental Protection Agency (EPA).

ACTION: Notice of appointment and re-appointment of Board of Directors.

SUMMARY: The National Environmental Education and Training Foundation (doing business as The National Environmental Education Foundation or “NEEF”) was created as a private 501(c)(3) non-profit organization. It was established by Congress as a common ground upon which leaders from business and industry, all levels of government, public interest groups, and others can work cooperatively to raise a greater national awareness of environmental issues beyond traditional classrooms.

FOR FURTHER INFORMATION CONTACT: For information regarding this Notice of Appointment, please contact Hiram Tanner, 202-564-4988, Director for Office of Environmental Education, U.S. EPA 1200 Pennsylvania Avenue NW, Washington, DC 20460.

SUPPLEMENTARY INFORMATION: As required by the terms of the NEEA, the Administrator of the U.S. Environmental Protection Agency appoints and reappoints eligible individuals to serve on NEEF's Board of Directors. The Administrator announces the following four-year appointments to NEEF's Board of Directors, effective 90 days after publication of this original notice:

• Kim Moore Bailey, President, and CEO, Justice Outside

• Arielle King, Consultant, Intersectional Environmentalist

• Chandra Taylor-Sawyer, Senior Attorney and Leader of Environmental Justice Initiative, Southern Environmental Law Center

• Marc Washington, Senior Director, Capital One

• John Whyte, MD, Chief Medical Officer, WebMD

Additionally, the Administrator re-appoints the following four individuals to serve a second four-year term:

• Katie Hogge, Digital Outreach Manager, The Ocean Conservancy

• Jennifer Love, Former Chief Security Officer and SVP, Safety, Health and Environment, Royal Caribbean Cruises Ltd.

• Lori McFarling, Non-profit Advisor, Former President, Social Impact, Discovery Education

• Stephen Sikra, Former Vice President and Head of the Americas, Alliance to End Plastic Waste

Additional Considerations: As an independent foundation, NEEF is different from the Agency's several federal advisory committees and scientific boards, which have their own appointment processes.

Because NEEA gives complete discretion to the Administrator in appointing members to NEEF's Board of Directors, EPA is taking additional steps to ensure all prospective members are qualified to serve on the Board and represent a variety of points of view and bring with them a variety of expertise and experiences.

Section 10(a) of the National Environmental Education Act of 1990 (NEEA) establishes the National Environmental Education Foundation and its underlying terms. The statute in its entirety is available on EPA's website and may be accessed here: https://www.epa.gov/education/national-environmental-education-act#s10.

Section 10 of the NEEA provides the following, in pertinent part:

Establishment and Purposes

Establishment—

There is hereby established the National Environmental Education Foundation. The Foundation is established in order to extend the contribution of environmental education and training to meeting critical environmental protection needs, both in this country and internationally; to facilitate the cooperation, coordination, and contribution of public and private resources to create an environmentally advanced educational system; and to foster an open and effective partnership among Federal, State and local government, business, industry, academic institutions, community based environmental groups, and international organizations.

The Foundation is a charitable and nonprofit corporation whose income is exempt from tax, and donations to which are tax deductible to the same extent as those organizations listed pursuant to section 501(c) of the Internal Revenue Code of 1986. The Foundation is not an agency or establishment of the United States.

Purposes—The purposes of the Foundation are—

Subject to the limitation contained in Section 10 (d) of the National Environmental Education Act of 1990 (NEEA) to encourage, accept, leverage, and administer private gifts for the benefit of, or in connection with, the environmental education and training activities and services of the United States Environmental Protection Agency;

To conduct such other environmental education activities as will further the development of an environmentally conscious and responsible public, a well-trained and environmentally literate workforce, and an environmentally advanced educational system; and

To participate with foreign entities and individuals in the conduct and coordination of activities that will further opportunities for environmental education and training to address environmental issues and problems involving the United States and Canada or Mexico.

Programs—The Foundation will develop, support, and/or operate programs and projects to educate and train educational and environmental professionals, and to assist them in the development of environmental education and training programs and studies.

Board of Directors

Establishment and Membership—

The Foundation shall have a governing Board of Directors (hereafter referred to in this section as `the Board'), which shall consist of 13 directors, each of whom shall be knowledgeable or experienced in the environment, education and/or training. The Board shall oversee the activities of the Foundation and shall assure that the activities of the Foundation are consistent with the environmental and education goals and policies of the EPA and with the intents and purposes of this Act. The membership of the Board, to the extent practicable, shall represent diverse points of view relating to environmental education and training.

Appointment and Terms—

Members of the Board shall be appointed by the EPA Administrator.

Within 90 days of the date of the enactment of this Act, and as appropriate thereafter, the Administrator shall publish in the Federal Register an announcement of appointments of Directors of the Board. Such appointments become final and effective 90 days after publication of the notice of appointment.

The directors shall be appointed for terms of four years. The Administrator shall appoint an individual to serve as a director in the event of a vacancy on the Board within 60 days of said vacancy in the way the original appointment was made. No individual may serve more than two consecutive terms as a director.

Dated: February 14, 2024.
Loni Cortez Russell,
Associate Administrator, Office of Public Engagement and Environmental Education.

[FR Doc. 2024-03531 Filed 2-21-24; 8:45 am]

BILLING CODE 6560-50-P